DEPARTMENT OF THE INTERIOR

Bureau of Land Management

[MTM 109072]

Notice of Application for Withdrawal and Notification of Public Meeting; Montana

AGENCY: Bureau of Land Management, Interior.

ACTION: Notice.

SUMMARY: The United States Forest Service (USFS) has filed an application with the Bureau of Land Management (BLM) requesting that the Secretary of the Interior withdraw, for a 20-year term, approximately 30,370 acres of National Forest System lands from location and entry under the United States mining laws, but not from leasing under mineral and geothermal laws. The purpose of the withdrawal is to protect and preserve the scenic integrity, important wildlife corridors, and high quality recreation values of the Emigrant Crevice area located in the Custer Gallatin National Forest, Park County, Montana. Publication of this notice temporarily segregates the lands for up to 2 years from location and entry under the United States mining laws while the withdrawal application is being processed. The lands have been and will remain open to such forms of disposition as may be allowed by law on National Forest System lands, and to leasing under the mineral and geothermal leasing laws. This notice also gives the public an opportunity to comment on the withdrawal application, and announces the date, time and location of the public meeting.

DATES: Comments must be received by February 21, 2017. The USFS will hold a public meeting in connection with the proposed withdrawal on January 18, 2017.

ADDRESSES: Comments should be sent to the Forest Supervisor, Custer Gallatin National Forest, P.O. Box 130, 10 East Babcock Avenue, Bozeman, Montana 59771; or the Bureau of Land Management, Montana State Office (MT924), 5001 Southgate Drive, Billings, Montana 59101.

FOR FURTHER INFORMATION CONTACT: Mary Erickson, Forest Supervisor, Custer Gallatin National Forest, 406-587-6949 or Deborah Sorg, BLM Montana/Dakotas State Office, 406-896-5045 during regular business hours, 8:00 a.m. to 4:30 p.m. Monday through Friday, except holidays. Persons who use a telecommunications device for the deaf (TDD) may call the Federal Relay Service at 1-800-877-8339 to contact either of the above individuals. The Service is available 24 hours a day, 7 days a week, to leave a message or question. You will receive a reply during normal business hours.

SUPPLEMENTARY INFORMATION: The applicant is the USFS. The application requests the Secretary of the Interior to withdraw, subject to valid existing rights, the following described lands from location and entry under the United States mining laws, but not from leasing under the mineral and geothermal leasing laws, for a period of 20 years, to protect and preserve the area for its scenic integrity, important wildlife corridors, and high quality recreation values. Portions of these lands are unsurveyed and the acres were obtained from protraction diagrams or calculated using the Geographic Information System.

Custer Gallatin National Forest

Principal Meridian, Montana

T. 6 S., R. 8 E.,

Secs. 34 and 35;

Sec. 36, lots 1 thru 8, W½NE¼, W½, and SE¼SE¼.

T. 7 S., R. 8 E.,

Sec. 10, lot 1, N½, N½SW¼, SE¼SW¼, and SE¼;

Sec. 11, S½;

Sec. 12, S½;

Secs. 13, 14, and 15;

Protracted blocks 37 thru 41.

T. 6 S., R. 9 E.,

Sec. 31, lots 1 thru 6, NE¼, E½NW¼, NE¼SE¼, and W½SE¼;

Sec. 32, S½;

Sec. 33, S½.

T. 7 S., R 9 E.,

Sec. 9, unsurveyed;

Sec. 10, W½, unsurveyed;

Secs. 16 and 17, unsurveyed;

Protracted blocks 39 thru 45.

T. 8 S., R. 9 E.,

Secs. 22 thru 26, unsurveyed, those portions not within the Absaroka-Beartooth Wilderness;

Protracted blocks 41 thru 46, those portions not within the Absaroka-Beartooth Wilderness;

Protracted blocks 47 and 48;

Protracted block 49, that portion not within the Absaroka-Beartooth Wilderness;

H.E.S. No. 856.

T. 9 S., R. 9 E.,

Secs. 1 and 2, those portions not within the Absaroka-Beartooth Wilderness;

Sec. 3, lots 1, 2, and 3, NE¼, N½NW¼, SE¼NW¼, E½SW¼, and SE¼;

Sec. 4, lot 2, lots 5 thru 9, lots 12 thru 15, N½NE¼, and NW¼;

Sec. 5, lots 1 thru 6, N½NE¼, SW¼NE¼, NW¼, and W½SE¼;

Sec. 6, lot 1, lots 5 thru 12, NE¼, and NE¼NW¼;

Sec. 7, lots 5 and 6, S½NE¼, E½NW¼, E½SW¼, and SE¼;

Sec. 8, lots 1, 4, 5, 6, 9, and 10, SW¼NW¼, and SW¼, excepting Wormsbecker Boundary Adjustment Tract, Certificate of Survey No. 792BA, filed in Park County, Montana, July 22, 1985, Document No. 186782;

Sec. 9, lots 1, 3, and 4, lots 9 thru 15, and S½SE¼;

Sec. 10, lots 1 and 2, N½, SW¼, and N½SE¼;

Sec. 11, lots 1, 2, 3, 5, and 6, N½NE¼, NW¼, N½SW¼, SE¼SW¼, SW¼SE¼, those portions not within the Absaroka-Beartooth Wilderness;

Sec. 14, lots 1 thru 8, NW¼NE¼, SE¼SW¼, and W½SW¼, those portions not within the Absaroka-Beartooth Wilderness;

Sec. 15, lots 1 thru 9, NW¼, and W½SW¼;

Sec. 16, lots 1 thru 5, E½, N½NW¼, and SW¼NW¼;

Sec. 17, lots 2 and 3, lots 5 thru 8, SE¼NE¼, NW¼NW¼, SE¼SW¼, and SE¼;

Sec. 18, lots 1 thru 6, NE¼, E½NW¼, E½SW¼, and W½SE¼;

Sec. 19, lots 1 thru 14, NE¼NW¼, and NE¼SE¼, including the bed of the Yellowstone River;

Sec. 20, lots 2 thru 5, N½SW¼, and N½SE¼;

Sec. 21;

Sec. 22, lots 2 thru 13, W½NW¼, and NW¼SW¼;

Sec. 23, lots 1 thru 10, NE¼, and N½SE¼, those portions not within the Absaroka-Beartooth Wilderness;

Tracts 37, 38, and 39;

H.E.S. No. 253.

The areas described aggregate approximately 30,370 acres of National Forest System lands in Park County.

The following described non-Federal lands and non-Federal mineral rights are within the exterior boundary of the proposed withdrawal application. If title to these non-Federal lands or non-Federal mineral rights is subsequently acquired by the United States, the application requests that such acquired lands and/or mineral rights become subject to the terms and conditions of the withdrawal.

Principal Meridian, Montana

T. 6 S., R. 8 E.,

M.S. No. 10643, except that portion lying northerly of the line bet. Secs. 25 and 36;

M.S. No. 6079.

T. 7 S., R. 8 E.,

M.S. No. 8838, except that portion lying westerly of the line bet. Secs. 9 and 10.

T. 6 S., Rs. 8 and 9 E.,

M.S. No. 6078.

Tps. 6 and 7 S., Rs. 9 E.,

M.S. Nos. 4087 and 4724.

T. 7 S., R. 9 E.,

M.S. Nos. 58, 6705, 6706, 6707, 6939, 6940, 6941, 9015, 9858, and 10229.

T. 9 S., R. 9 E.,

Sec. 20, lot 1 and SW¼NW¼;

M.S. Nos. 46 and 47;

M.S. No. 44, that portion lying northerly of the E-W center line of the SE¼ of Sec. 8;

M.S. Nos. 48 and 61;

M.S. No. 62, that portion lying northerly of the E-W center line of the SE¼ of Sec. 8;

M.S. Nos. 4535, 4536, 4537, 4538, 4557, 4558, 4559, 4560, 4899, 4900, 4901, 4902, 4903, 4904, 4905, 5527, 5528, 5529, 5531, 5532, 5533, 5542, 5573A, 5573B, 5581, 5583, 5613, 5614, 5627, 5628, 5629, 5674, 5675, 5676, 5713, 5786, 5819, 5820, 6117, 6283, 6284, 6341, 6374, 6376, 6377, 6657, 6930, 6931, 6999, 7000, 7001, 7002, 7003, 7004, 7005, 7006, 7007, 7008, 7108, 8869, 8876, 9023, and 9024;

M.S. No. 9035, that portion not within the Absaroka-Beartooth Wilderness;

M.S. Nos. 9681, 9771, 9906, and 10774.

Wormsbecker Boundary Adjustment Tract, Certificate of Survey No. 792BA, filed in Park County, Montana, July 22, 1985, Document No. 186782.

The areas described aggregate approximately 1,668 acres in Park County.

The purpose of the requested withdrawal is to protect and preserve the areas scenic integrity, important wildlife corridors, and high quality recreation values. The use of a right-of-way, interagency agreement, or cooperative agreement would not adequately constrain non-discretionary uses and would not provide adequate protection for these areas.

No alternative sites are feasible because the lands subject to the withdrawal application are the lands for which protection is sought from the impacts of exploration and development under the United States mining laws. No water will be needed to fulfill the purpose of the requested withdrawal.

Records related to the application may be examined by contacting either of the individuals listed in the FOR FURTHER INFORMATION CONTACT section above.

For a period until February 21, 2017, all persons who wish to submit comments, suggestions, or objections in connection with the withdrawal application may present their views in writing to the Forest Supervisor, Custer Gallatin National Forest at the address noted above. Comments, including names and street addresses of respondents, will be available for public review at the address indicated above during regular business hours.

Before including your address, phone number, email address, or other personal identifying information in your comment, you should be aware that your entire comment—including your personal identifying information—may be made publicly available at any time. While you can ask us to withhold your personal identifying information from public review, we cannot guarantee that we will be able to do so.

Notice is hereby given that a public meeting in connection with the application for withdrawal will be held at the Shane Center, 415 E Lewis St., Livingston, Montana 59407 on January 18, 2017 from 4-7 p.m. The USFS will publish a notice of the time and place in a local newspaper at least 30 days before the scheduled date of the meeting.

For a period until November 23, 2018, subject to valid existing rights, the National Forest System lands described in this notice will be segregated from location and entry under the United States mining laws, unless the application is denied or canceled or the withdrawal is approved prior to that date. All other activities currently consistent with the Forest plan could continue, including public recreation and other activities compatible with preservation of the character of the area, subject to discretionary approval, during the temporary segregation period.

The application will be processed in accordance with the regulations set forth in 43 CFR part 2300.

Kimberly O. Prill,
Chief, Branch of Realty, Lands and Renewable Energy.

[FR Doc. 2016-28052 Filed 11-21-16; 8:45 am]

BILLING CODE 3411-15-P